DEPARTMENT OF AGRICULTURE

Food and Nutrition Service

Agency Information Collection Activities: State Agency (NSLP/SNAP) Direct Certification Rate Data Element Report (FNS-834)

AGENCY: Food and Nutrition Service (FNS), USDA.

ACTION: Notice.

SUMMARY: In accordance with the Paperwork Reduction Act of 1995, this notice invites the general public and other public agencies to comment on this proposed information collection. This collection is a reinstatement, without change, of a previously approved collection for which approval has expired for the State Agency (NSLP/SNAP) Direct Certification Rate Data Element Report (FNS-834).

DATES: Written comments must be received on or before July 11, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments will be accepted through the Federal eRulemaking Portal. Go to http://www.regulations.gov, and follow the online instructions for submitting comments electronically. Comments may also be sent to: Lynnette Thomas, Food and Nutrition Service, U.S. Department of Agriculture, 3101 Park Center Drive, Room 1014, Alexandria, VA 22302.

All responses to this notice will be summarized and included in the request for Office of Management and Budget approval. All comments will be a matter of public record.

FOR FURTHER INFORMATION CONTACT: Requests for additional information or copies of this information collection should be directed to Lynnette Thomas at 703-305-2017.

SUPPLEMENTARY INFORMATION: Title: State Agency (NSLP/SNAP) Direct Certification Rate Data Element Report (FNS-834).

Form Number: FNS-834.

OMB Number: 0584-0577.

Expiration Date: Not Yet Determined.

Type of Request: Reinstatement, without change, of a previously approved collection for which approval has expired.

Abstract: The Richard B. Russell National School Lunch Act (NSLA), as amended, authorizes the National School Lunch Program (NSLP). Section 101(b) of the HHFKA, amended section 9(b)(4) of the NSLA (42 U.S.C. 1758(b)(4)) to define required percentage benchmarks for directly certifying children who are members of households receiving assistance under Supplemental Nutrition Assistance Program (SNAP) and further amended the NSLA to require, beginning with SY 2011-2012, that each State agency that does not meet the benchmark for a particular school year develop, submit, and implement a continuous improvement plan (CIP) to fully meet the benchmarks and to improve direct certification for the following school year.

FNS must calculate the direct certification rates for States and compare them to the benchmarks to determine which States will need to submit CIPs. To calculate these direct certification rates, FNS annually collects specific direct certification data elements from SNAP State agencies and NSLP State agencies on form FNS-834, State Agency (NSLP/SNAP) Direct Certification Rate Data Element Report. The form is available for review in the Supporting Documents of this docket.

The FNS-834 will be made available in the Food Programs Reporting System (FPRS) (OMB Control Number 0584-0594, expiration date 6/30/2017). The burden for 0584-0577 will subsequently be merged into the FPRS system.

Affected Public (Respondents): State Agencies.

Estimated Number of Respondents: 106.

Estimated Number of Responses per Respondent: 1.

Estimated Total Annual Responses: 106.

Average Hours per Response: .5.

Estimated Total Annual Burden on Respondents: 53.

Reporting (State Agencies)
| Section | Estimated number of respondents | Frequency of response | Average annual responses | Average burden per response | Annual burden hours
NSLP State agencies must annually report data to FNS for calculating direct certification rate | 7 CFR 245.13(c) | 54 | 1 | 54 | 0.5 | 27
SNAP State agencies must annually report data to FNS for calculating direct certification rates | 7 CFR 272.8(a)(5) | 52 | 1 | 52 | 0.5 | 26
Total Reporting Burden |  | 106 | 1 | 106 | 0.5 | 53

Dated: May 2, 2016.
David Burr,
Acting Administrator, Food and Nutrition Service.

[FR Doc. 2016-11044 Filed 5-10-16; 8:45 am]

BILLING CODE 3410-30-P